SECURITIES AND EXCHANGE COMMISSION

[File No. 500-1]

In the Matter of International Biochemical Industries, Inc.; Order of Suspension of Trading

February 6, 2003.

It appears to the Securities and Exchange Commission that there is a lack of current and accurate information concerning the securities of International BioChemical Industries, Inc. (“IBCL”) because of questions regarding the accuracy of assertions by IBCL in press releases that indicated that the Federal government had contacted IBCL to discuss the effectiveness of the company's products in the war on bioterrorism.

The Commission is of the opinion that the public interest and the protection of investors require a suspension of trading in the securities of the above-listed company.

Therefore, it is ordered, pursuant to section 12(k) of the Securities Exchange Act of 1934, that trading in the above-listed company is suspended for the period from 9:30 a.m. e.s.t. on February 6, 2003, through 11:59 p.m. e.s.t. on February 20, 2003.

By the Commission.
Jill M. Peterson,
Assistant Secretary.

[FR Doc. 03-3382 Filed 2-6-03; 2:30 pm]

BILLING CODE 8010-01-P